DEPARTMENT OF ENERGY

Implementing the National Broadband Plan by Empowering Consumers and the Smart Grid: Data Access, Third Party Use, and Privacy

AGENCY: Department of Energy.

ACTION: Notice of public meeting.

SUMMARY: On May 11, 2010, the Department of Energy (DOE) published a Request for Information seeking comments and information from interested parties to assist DOE in understanding current and potential practices and policies for the states and other entities to empower consumers (and perhaps others) through access to detailed energy information in electronic form—including real-time information from smart meters, historical consumption data, and pricing and billing information. DOE will hold a public meeting as part of this request for information.

DATES: The Department will hold a public meeting on June 29, 2010, from 9:30 a.m. to 12:30 p.m. in Washington, DC. Any person wishing to speak at the public meeting should submit a request to do so before 4 p.m., June 25, 2010. If there are time constraints, those who have submitted a request will be given preference. Written comments are welcome, especially following the public meeting, and should be submitted by July 12, 2010 and reply comments by July 26, 2010.

ADDRESSES: The public meeting will be held at the U.S. Department of Energy, Forrestal Building, Room 8e069, 1000 Independence Avenue, SW., Washington, DC 20585-0121. Please note that foreign nationals participating in the public meeting are subject to advance security screening procedures. If a foreign national wishes to participate in the public meeting, please inform DOE of this fact as soon as possible by contacting Katharine Dickerson at 202-586-5281 so that the necessary procedures can be completed.

Interested persons may submit comments, identified by “NBP RFI: Data Access,” by any of the following methods:

Federal eRulemaking Portal: http://www.regulations.gov Follow the instructions for submitting comments.

E-mail: broadband@hq.doe.gov. Include “NBP RFI: Data Access” in the subject line of the message.

Mail: U.S. Department of Energy, Office of the General Counsel, 1000 Independence Avenue, SW., Room 6A245, Washington, DC 20585.

FOR FURTHER INFORMATION CONTACT: Maureen C. McLaughlin, Senior Legal Advisor to the General Counsel (202) 586-5281; broadband@hq.doe.gov.

For Media Inquires you may contact Jen Stutsman at 202-586-4940

SUPPLEMENTARY INFORMATION: On May 11, 2010, the Department of Energy (DOE) published a Request for Information seeking comments and information from interested parties to assist DOE in understanding current and potential practices and policies for the states and other entities to empower consumers (and perhaps others) through access to detailed energy information in electronic form—including real-time information from smart meters, historical consumption data, and pricing and billing information. (75 FR 26203) The request for information asked interested parties, including industry, consumer groups and state governments, to report on state efforts to enact Smart Grid privacy and data collection policies. The request for information also sought input regarding individual electric utility practices and policies regarding data access and collection; third party access to detailed energy information; and the role of the consumer in balancing the benefits of access and privacy. Finally, the request for information sought comment on what policies and practices should guide policymakers in determining who can access consumers' energy information and under what conditions.

Issued in Washington, DC, on June 8, 2010.
Scott Blake Harris,
General Counsel.

[FR Doc. 2010-14251 Filed 6-11-10; 8:45 am]

BILLING CODE 6450-01-P